DEPARTMENT OF COMMERCE

National Oceanic and Atmospheric Administration

[I.D. 103003C]

Marine Mammals; File No. 1048-1717

AGENCY: National Marine Fisheries Service (NMFS), National Oceanic and Atmospheric Administration (NOAA), Commerce.

ACTION: Receipt of application and notice of availability of draft environmental assessment.

SUMMARY: Notice is hereby given that Dr. Peter J. Stein, Scientific Solutions, Inc., Nashua, New Hampshire, has applied in due form for a permit to take the marine mammal species listed below for purposes of scientific research.

DATES: Written or telefaxed comments must be received on or before December 5, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; www.nmfs.noaa.gov/prot_res; and Southwest Region, NMFS, 501 West Ocean Blvd., Suite 4200, Long Beach, CA 90802-4213; phone (562)980-4001; fax (562)980-4018.

FOR FURTHER INFORMATION CONTACT: Dr. Tammy Adams or Carrie Hubard, (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

The applicant requests a permit to expose gray whales (Eschrtictius robustus) migrating offshore of central California to low-powered high-frequency active sonar, henceforth referred to as “whale-finder sonar systems,” while simultaneously recording any reactions of the animals to the sound. In addition to the target species, which is not listed under the ESA, the applicant also requests authorization for unintentional “takes” of the following non-target marine mammals that may be within the range of the whale-finder sonar systems: endangered blue whales (Balaenoptera musculus), endangered fin whales (B. physalus), endangered humpback whales (Megaptera novaeangliae), minke whales (B. acutorostrata), endangered sei whales (B. borealis), endangered sperm whales (Physeter macrocephalus), harbor porpoise (Phocoena phocoena), Dall's porpoise (Phocoenoides dalli), Pacific white-sided dolphins (Lagenorhynchus obliquidens), bottlenose dolphins (Tursiops truncatus), Risso's dolphins (Grampus griseus), short-beaked common dolphins (Delphinus delphis), northern right whale dolphins (Lissodephis borelais), killer whales (Orcinus orca), short-finned pilot whales (Globicephala macrorhynchus), Baird's beaked whales (Berardius bairdii), mesoplodont beaked whales (Mesoplodon spp.), Cuvier's beaked whales (Ziphius cavirostris), California sea lions (Zalophus californianus), harbor seals (Phoca vitulina), threatened Guadalupe fur seals (Arctocephalus townsendi), northern elephant seals (Mirounga angustirostris), northern fur seals (Callorhinus ursinus), and threatened Steller sea lions (Eumetopias jubatus). The objectives of the proposed research are to gather data on the reflectivity of whales, determine the probability of detection out to one mile, and determine what, if any, reaction the animals may have to high frequency active sonars designed to detect marine mammals. The purpose of the proposed research is to validate and improve the ability of whale-finder sonar systems to detect marine mammals without adversely affecting them.

A draft EA has been prepared to examine whether significant environmental impacts could result from issuance of the proposed scientific research permit. The draft EA is available for review and comment simultaneous with the scientific research permit application.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: October 31.
Stephen L. Leathery,
Chief, Permits, Conservation and Education Division, Office of Protected Resources, National Marine Fisheries Service.

[FR Doc. 03-27846 Filed 11-4-03; 8:45 am]

BILLING CODE 3510-22-S